DEPARTMENT OF THE INTERIOR

Bureau of Ocean Energy Management

Notice on Outer Continental Shelf Oil and Gas Lease Sales

AGENCY: Bureau of Ocean Energy Management, Interior.

ACTION: List of Restricted Joint Bidders.

SUMMARY: Pursuant to the Bureau of Ocean Energy Management (BOEM) regulatory restrictions on joint bidding, the Director of the BOEM is publishing a List of Restricted Joint Bidders. Each entity within one of the following groups is restricted from bidding with any entity in any of the other following groups at Outer Continental Shelf oil and gas lease sales to be held during the bidding period May 1, 2019, through October 31, 2019.

DATES: This List of Restricted Joint Bidders will cover the period May 1, 2019, through October 31, 2019, and replaces the prior list published on November 6, 2018 (83 FR 55560), which covered the period of November 1, 2018, through April 30, 2019.

Group I

BP America Production Company

BP Exploration & Production Inc.

BP Exploration (Alaska) Inc.

Group II

Chevron Corporation

Chevron U.S.A. Inc.

Chevron Midcontinent, L.P.

Unocal Corporation

Union Oil Company of California

Pure Partners, L.P.

Group III

Eni Petroleum Co. Inc.

Eni Petroleum US LLC

Eni Oil US LLC

Eni Marketing Inc.

Eni BB Petroleum Inc.

Eni US Operating Co. Inc.

Eni BB Pipeline LLC

Group IV

Equinor ASA

Equinor Gulf of Mexico LLC

Equinor USA E&P Inc.

Group V

Exxon Mobil Corporation

ExxonMobil Exploration Company

Group VI

Shell Oil Company

Shell Offshore Inc.

SWEPI LP

Shell Frontier Oil & Gas Inc.

SOI Finance Inc.

Shell Gulf of Mexico Inc.

Group VII

Total E&P USA, Inc.

Even if an entity does not appear on the above list, certain joint or single bids submitted by such an entity may be disqualified, and rejected, by BOEM if that entity is chargeable for the prior production period with an average daily production in excess of 1.6 million barrels of crude oil, natural gas, and natural gas liquids. See 30 CFR 556.512.

Authority: 30 CFR 556.511-556.515.

Dated: May 31, 2019.
Walter D. Cruickshank,
Acting Director, Bureau of Ocean Energy Management.

[FR Doc. 2019-11779 Filed 6-5-19; 8:45 am]

BILLING CODE 4310-MR-P